DEPARTMENT OF THE TREASURY

Agency Information Collection Activities; Proposed Collection; Comment Request; Homeowner Assistance Fund

AGENCY: Departmental Offices, U.S. Department of the Treasury.

ACTION: Notice.

SUMMARY: The Department of the Treasury, as part of its continuing effort to reduce paperwork and respondent burden, invites the general public and other federal agencies to comment on the proposed information collections listed below, in accordance with the Paperwork Reduction Act of 1995.

DATES: Written comments must be received on or before May 23, 2022.

ADDRESSES: Send comments regarding the burden estimate, or any other aspect of the information collection, including suggestions for reducing the burden, by the following method:

• Federal E-rulemaking Portal: http://www.regulations.gov. Follow the instructions for submitting comments. Refer to Docket Number TREAS-DO-2022-0007 and the specific Office of Management and Budget (OMB) control number 1505-0269.

FOR FURTHER INFORMATION CONTACT: Copies of the submissions may be obtained from Christopher Sun by emailing HAF@treasury.gov, calling 877-398-5861, or viewing the entire information collection request at www.reginfo.gov.

SUPPLEMENTARY INFORMATION:

Title: Homeowner Assistance Fund.

OMB Control Number: 1505-0269.

Type of Review: Extension of a currently approved collection.

Description: On March 11, 2021, the President signed the American Rescue Plan Act of 2021 (the “Act”), Public Law 117-2. Title III, Subtitle B, Section 3206 of the Act established the Homeowner Assistance Fund and provides $9.961 billion for the U.S. Department of the Treasury (Treasury) to make payments to States (defined to include the District of Columbia, Puerto Rico, U.S. Virgin Islands, Guam, Northern Mariana Islands, and American Samoa), Indian tribes or Tribally Designated Housing Entities, as applicable, and the Department of Hawaiian Home Lands (collectively the “eligible entities”) to mitigate financial hardships associated with the coronavirus pandemic, including for the purposes of preventing homeowner mortgage delinquencies, defaults, foreclosures, loss of utilities or home energy services, and displacements of homeowners experiencing financial hardship after January 21, 2020, through qualified expenses related to mortgages and housing.

Form: Acceptance of Award Terms Form; Notice of Funds Request; Recipient Payment Information Form; Assurances of Compliance with Civil Rights Requirements; Interim Reporting, Quarterly Reporting and Annual Reporting.

Affected Public: State and tribal governments.

Estimated Number of Respondents: 651.

Frequency of Response: Once.

Estimated Total Number of Annual Responses: 5,465.

Estimated Time per Response: 15 minutes to 4 hours.

Estimated Total Annual Burden Hours: 7,590 hours.

Request for Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

(Authority: 44 U.S.C. 3501 et seq.)

Molly Stasko,
Treasury PRA Clearance Officer.

[FR Doc. 2022-06125 Filed 3-22-22; 8:45 am]

BILLING CODE 4810-AK-P